DEPARTMENT OF STATE

[Public Notice 8258]

Proposed Keystone XL Project; Public Meeting Following Release of the Draft Supplemental Impact Statement

AGENCY: Department of State.

ACTION: Notice of public meeting in Grand Island, Nebraska following release of the Draft Supplemental Impact Statement (SEIS) for the proposed Keystone XL project.

SUMMARY: On March 1, the Department of State released the Draft Supplemental Environmental Impact Statement (SEIS) for the Presidential Permit application for the proposed Keystone XL pipeline. The document is a draft technical review of potential environmental impacts. It does not make any recommendations on whether the pipeline border crossing should be approved or denied.

Consistent with the National Environmental Policy Act (NEPA), the Department of State (the Department) is holding a public comment period. The 45-day public comment period began on March 8. The Department has decided to hold a public meeting in conjunction with the public comment period. The Department will take into account public comments before the Draft SEIS is finalized. Once final, the document will help inform the U.S. government's decision on whether the Keystone XL pipeline serves the national interest.

Purpose of the Nebraska Meeting: The meeting in Grand Island, Nebraska is an opportunity for the public to provide comments on the Draft Supplemental Environmental Impact Statement and express views on the proposed Keystone XL pipeline. Participants are encouraged to present information regarding the analysis in the Draft SEIS. The public meeting is a listening session: the Department of State will not be responding to questions or comments at the meeting. Written comments will also be accepted.

The date, location, and time of the meeting are as follows:

April 18, 2013

Heartland Events Center, 700 East Stolley Park Rd., Grand Island, NE 68801.

12:00 p.m.-3:30 p.m., 4:00 p.m.-8:00 p.m.

Registration begins at 11:00 a.m.

Procedures for the Public Meeting

Speakers: All members of the public are welcome to attend the meeting and state their comments for the administrative record. Persons who want to speak at the meeting will need to sign up in person at the entrance of the meeting venue. Registration will begin at 11:00 a.m. Those wishing to speak must be present when their turn is called or they will forfeit their time.

Comments: Remarks made at the meeting will be recorded, transcribed, and entered into the administrative record and taken into consideration as the Department prepares the Final SEIS for the proposed Keystone XL pipeline. Each speaker will be allowed three minutes to make remarks, to allow the maximum number of people who sign up to speak. Speakers will be asked to state their name and any organization with which they are affiliated.

Depending on attendance, it may not be possible for all those who sign up to have the opportunity to speak. The Department of State encourages individuals who do not have the opportunity to speak or who are unable to complete their comments in the allotted time to submit comments on the Draft Supplemental Environmental Impact Statement in written form. Department of State officials will be available to accept written comments at the meeting. A summary of all comments will be incorporated in an appendix to the final version of the SEIS. In order to ensure that comments are considered, all comments must be submitted before the 45-day comment period ends at midnight on April 22, 2013.

Presiding Officer: The meeting will be chaired by an official from the Department of State. At the beginning of the meeting, the presiding officer will explain the Department's process for making a decision on the Permit, but will not respond to questions or comments.

Protocol: We ask attendees to respect the meeting procedures to ensure a constructive information gathering session that enables the maximum number of participants to express their views. No signs or banners will be allowed inside the meeting venue and comments should be directed at the presiding officer rather than at other attendees. The presiding officer will use his/her discretion in order to ensure that the meeting is conducted in an orderly manner.

FOR FURTHER INFORMATION CONTACT: A comprehensive description of the proposed Project, up-to-date information regarding the federal review process, and the Draft Supplemental Impact Statement are available at www.keystonepipeline-xl.state.gov.

Comments can be submitted by the following methods:

• Email at keystonecomments@state.gov; or

• Mailed to the following address: U.S. Department of State, Attn: Genevieve Walker, NEPA Coordinator, 2201 C Street NW., Room 2726, Washington, DC 20520.

As noted above, in order for comments to be considered they must be submitted by midnight on April 22, 2013.

Media Contacts: Please contact Imani Esparza at 202-736-7120 or via email at EsparzaIJ@state.gov.

Issued in Washington, DC, on March 22, 2013.
George Sibley,
Office Director, Office of Environmental Quality and Transboundary Issues, Bureau of Oceans and International Environmental and Scientific Affairs, U.S. Department of State.

[FR Doc. 2013-07072 Filed 3-26-13; 8:45 am]

BILLING CODE 4710-09-P